DEPARTMENT OF HEALTH AND HUMAN SERVICES

Centers for Medicare & Medicaid Services

Statement of Organization, Functions, and Delegations of Authority

Part F of the Statement of Organization, Functions, and Delegations of Authority for the Department of Health and Human Services, Centers for Medicare & Medicaid Services (CMS), (Federal Register, Vol. 70, No. 249, pp. 77160-77161, dated December 29, 2005; Vol. 75, No. 56, pp. 14176—14178, dated March 24, 2010; and Vol. 76, No. 144, pp. 44933-44934, dated July 27, 2011) are amended to: (1) Realign the survey and certification function from the Center for Medicaid, CHIP and Survey & Certification to the Office of Clinical Standards and Quality (OCSQ) and to change the organizational title for the Center for Medicaid, CHIP and Survey & Certification to the Center for Medicaid and CHIP Services (CMCS), and (2) realign the governmental relations function from the Office of Legislation (OL) to CMCS. Part F, Sections FC.10 (Organization) and FC.20 (Functions) is revised as follows:

• Section FC. 10 (Organization):

Office of the Administrator (FC)

Office of Equal Opportunity and Civil Rights (FCA)

Office of Legislation (FCC)

Office of the Actuary (FCE)

Office of Strategic Operations and Regulatory Affairs (FCF)

Office of Clinical Standards and Quality (FCG)

Center for Medicare (FCH)

Center for Medicaid and CHIP Services (FCJ)

Center for Strategic Planning (FCK)

Center for Program Integrity (FCL)

Chief Operating Officer (FCM)

Office of Minority Health (FCN)

Center for Medicare and Medicaid Innovation (FCP)

Federal Coordinated Health Care Office (FCQ)

Center for Consumer Information and Insurance Oversight (FCR)

Office of Public Engagement (FCS)

Office of Communications (FCT)

• Section FC.20 (Functions):

Center for Medicaid and CHIP Services (FCJ)

• Serves as CMS' focal point for the formulation, coordination, integration, implementation, and evaluation of all national program policies and operations relating to the Medicaid and Children's Health Insurance Program (CHIP).

• In partnership with States, evaluates the success of State agencies in carrying out their responsibilities for effective State program administration and beneficiary protection, and, as necessary, assists States in correcting problems and improving the quality of their operations.

• Identifies and proposes modifications to Medicaid and CHIP program measures, regulations, laws and policies to reflect changes or trends in the health care industry, program objectives, and the needs of Medicaid beneficiaries. Collaborates with OL on the development and advancement of new legislative initiatives and improvements.

• Serves as CMS' lead for management, oversight, budget and performance issues relating to Medicaid, CHIP, and the related interactions with the States.

• Coordinates with the Center for Program Integrity on the identification of program vulnerabilities and implementation of strategies to eliminate fraud, waste, and abuse.

• In conjunction with the Office of Public Engagement, oversees all CMS interactions and collaboration relating to Medicaid and CHIP with beneficiaries, States and territories and key stakeholders (e.g., health facilities and other health care providers, other Federal government entities, local governments) and communication and dissemination of policies, guidance and materials to same to understand their perspectives, support their efforts, and to drive best practices for beneficiaries, in States and throughout the health care industry.

• Develops and implements a comprehensive strategic plan, objectives and measures to carry out CMS' Medicaid and CHIP mission and goals and position the organization to meet future challenges with the Medicaid and CHIP programs.

Office of Clinical Standards and Quality (FCG)

• Serves as the focal point for all quality, clinical, medical science issues, survey and certification, and policies for CMS' programs. Provides leadership and coordination for the development and implementation of a cohesive, CMS-wide approach to measuring and promoting quality and leads CMS' priority-setting process for clinical quality improvement. Coordinates quality-related activities with outside organizations. Monitors quality of Medicare, Medicaid, and the Clinical Laboratory and Improvement Amendments (CLIA). Evaluates the success of interventions.

• Identifies and develops best practices and techniques in quality improvement; implementation of these techniques will be overseen by appropriate components. Develops and collaborates on demonstration projects to test and promote quality measurement and improvement.

• Develops, tests, evaluates, adopts and supports performance measurement systems (i.e., quality measures) to evaluate care provided to CMS beneficiaries except for demonstration projects residing in other components.

• Assures that CMS' quality-related activities (survey and certification, technical assistance, beneficiary information, payment policies and provider/plan incentives) are fully and effectively integrated. Carries out the Health Care Quality Improvement Program for the Medicare, Medicaid, and CLIA programs.

• Oversees the planning, policy, coordination and implementation of the survey, certification and enforcement programs for all Medicare and Medicaid providers and suppliers, and for laboratories under the auspices of CLIA.

• Serves as CMS' lead for management, oversight, budget, and performance issues relating to the survey and certification program and the related interactions with the States.

• Leads in the specification and operational refinement of an integrated CMS quality information system, which includes tools for measuring the coordination of care between health care settings; analyzes data supplied by that system to identify opportunities to improve care and assess success of improvement interventions.

• Develops requirements of participation for providers and plans in the Medicare, Medicaid, and CLIA programs. Revises requirements based on statutory change and input from other components.

• Operates the Quality Improvement Organization and End-Stage Renal Disease Network program in conjunction with Regional Offices, providing policies and procedures, contract design, program coordination, and leadership in selected projects.

• Identifies, prioritizes and develops content for clinical and health related aspects of CMS' Consumer Information Strategy; collaborates with other components to develop comparative provider and plan performance information for consumer choices.

• Prepares the scientific, clinical, and procedural basis for coverage of new and established technologies and services and provides coverage recommendations to the CMS Administrator. Coordinates activities of CMS' Technology Advisory Committee and maintains liaison with other departmental components regarding the safety and effectiveness of technologies and services; prepares the scientific and clinical basis for, and recommends approaches to, quality-related medical review activities of carriers and payment policies.

Office of Legislation (FCC)

• Provides leadership and executive direction within CMS for legislative planning to address the Administration's agenda.

• Tracks, evaluates and develops provisions of annual legislative proposals for Medicare, Medicaid, CHIP, private health insurance programs, CLIA, Health Insurance Portability and Accountability Act and related statutes affecting health care financing, health insurance, quality, and access in concert with CMS components, the Department and the Office of Management and Budget.

• Advances the legislative policy process through analysis, review and development of health care initiatives and issues.

• Develops the long-range legislative plans for CMS in collaboration with the CMS Centers, Offices, and the Chief Operating Officer (COO).

• Participates with other CMS components in the development of CMS policy, including implementing regulations and administrative actions.

• Manages pro-actively CMS' response in times of heightened congressional oversight of CMS in collaboration with the Centers, Offices, and COO. Manages, coordinates and develops policies for responding to congressional inquiries.

• Coordinates activities with the Office of the Assistant Secretary for Legislation (ASL) and serves as the ASL's principal contact point on legislative and congressional relations.

• In collaboration with CMS Centers, Offices, and the COO, provides technical assistance, consultation and information services to congressional committees and individual members of Congress on the Medicare, Medicaid, CHIP, and private health insurance programs, new CMS initiatives, and pertinent legislation.

• In collaboration with the CMS Centers, Offices, and COO, provides technical, analytical, advisory, and information services to CMS' components, the Department, the White House, OMB, other government agencies, private organizations and the general public on CMS legislation.

• Tracks and reports on legislation relating to CMS programs and maintains legislative reference library.

• Coordinates CMS' participation in congressional hearings, including preparation of testimony and briefing materials, and covers all other congressional hearings on matters of interest to CMS except Appropriations Committee hearings specifically on the appropriation budget.

Authority: 44 U.S.C. 3101.

Dated: October 13, 2011.
Michelle Snyder,
Deputy Chief Operating Officer, Centers for Medicare & Medicaid Services.

[FR Doc. 2011-27169 Filed 10-19-11; 8:45 am]

BILLING CODE 4120-01-P